DEPARTMENT OF HOMELAND SECURITY

Coast Guard

33 CFR Part 100

[CGD01-06-097]

Special Local Regulation: Taste of Italy Fireworks, Norwich, CT

AGENCY: Coast Guard, DHS.

ACTION: Notice of implementation.

SUMMARY: This document puts into effect the permanent regulations for the annual Taste of Italy Fireworks in Norwich, CT. The regulation is necessary to control vessel traffic within the immediate vicinity of the event due to the hazards presented by a fireworks display to the maritime community, thus providing for the safety of life and property on the affected waters.

DATES: This regulation is effective from 8 p.m. on September 9, 2006 to 10:45 p.m. on September 10, 2006.

FOR FURTHER INFORMATION CONTACT: John Mauro, Chief Waterways Management Branch, First Coast Guard District, (617) 223-8355.

SUPPLEMENTARY INFORMATION: This document implements the permanent special local regulation governing the Taste of Italy Fireworks, Norwich, CT. 33 CFR 100.114(a)(9.5). A portion of the waters off of Norwich Harbor, Norwich, CT will be closed during the effective period to all vessel traffic, except the fireworks barge and local, state or Coast Guard patrol craft. The regulated area is that area of Norwalk Harbor in a 600-foot radius of the fireworks barge located at approximate position 41°31.706′ N., 072°04.718′ W. All coordinates are North American Datum 1983. Additional public notification will be made via the First Coast Guard District Local Notice to Mariners and marine safety broadcasts. The full text of this regulation is found in 33 CFR 100.114.

Dated: July 18, 2006.
Timothy S. Sullivan,
Rear Admiral, U.S. Coast Guard, Commander, First Coast Guard District.

[FR Doc. E6-13311 Filed 8-14-06; 8:45 am]

BILLING CODE 4910-15-P